DEPARTMENT OF HOUSING AND URBAN DEVELOPMENT

24 CFR Chapter IX

[Docket No. FR-5650-N-11]

Native American Housing Assistance and Self-Determination Act of 1996: Negotiated Rulemaking Committee; Notice of Eighth Meeting

AGENCY: Office of Assistant Secretary for Public and Indian Housing, HUD.

ACTION: Notice of meetings of negotiated rulemaking committee.

SUMMARY: This notice announces the eighth meeting of the Indian Housing Block Grant (IHBG) program negotiated rulemaking committee.

DATES: The eighth meeting will be held on Tuesday, January 26, 2016 and Wednesday, January 27, 2016. On each day, the session will begin at approximately 8:30 a.m., and adjourn at approximately 5:30 p.m.

ADDRESSES: The meeting will take place at the Weaver Building, U.S. Department of Housing and Urban Development, 451 Seventh Street SW., Washington, DC 20410.

FOR FURTHER INFORMATION CONTACT: Randy Akers, Acting Deputy Assistant Secretary for Native American Programs, Office of Public and Indian Housing, Department of Housing and Urban Development, 451 Seventh Street SW., Room 4126, Washington, DC 20410, telephone number 202-401-7914 (this is not a toll-free number). Hearing- or speech-impaired individuals may access this number via TTY by calling the toll-free Federal Relay Service at 1-800-877-8339.

SUPPLEMENTARY INFORMATION:

I. Background

The Native American Housing and Assistance and Self-Determination Act of 1996 (25 U.S.C. 4101 et seq.) (NAHASDA) changed the way that housing assistance is provided to Native Americans. NAHASDA eliminated several separate assistance programs and replaced them with a single block grant program, known as the Indian Housing Block Grant (IHBG) program. The regulations governing the IHBG formula allocation are codified in subpart D of part 1000 of HUD's regulations in title 24 of the Code of Federal Regulations. In accordance with section 106 of NAHASDA, HUD developed the regulations with active tribal participation using the procedures of the Negotiated Rulemaking Act of 1990 (5 U.S.C. 561-570).

Under the IHBG program, HUD makes assistance available to eligible Indian tribes for affordable housing activities. The amount of assistance made available to each Indian tribe is determined using a formula that was developed as part of the NAHASDA negotiated process. Based on the amount of funding appropriated for the IHBG program, HUD calculates the annual grant for each Indian tribe and provides this information to the Indian tribes. An Indian Housing Plan for the Indian tribe is then submitted to HUD. If the Indian Housing Plan is found to be in compliance with statutory and regulatory requirements, the grant is made.

On July 3, 2012 at 77 FR 39452, HUD announced its intention to establish a negotiated rulemaking committee for the purpose of developing regulatory changes to the formula allocation for the IHBG program. On June 12, 2013 at 78 FR 35178, HUD announced the list of proposed members for the negotiated rulemaking committee, and requested additional public comment on the proposed membership. On July 30, 2013 at 78 FR 45903, HUD announced the final list of committee members to revise the allocation formula used under the IHBG.

Committee meetings have taken place on August 27-28, 2013, September 17-19, 2013, April 23-24, 2014, June 11-13, 2014, July 29-31, 2014, August 26-28, 2014, and August 11-13, 2015. All of the Committee meetings were announced in the Federal Register and were open to the public.¹

¹ See, 78 FR 45903 (July 30, 2013), 78 FR 54416 (September 4, 2013), 79 FR 14204 (March 13, 2014), 79 FR 29700 (May 23, 2014), 80 FR 30004 (May 26, 2015).

II. Eighth Committee Meeting

The eighth meeting of the IHBG Formula Negotiated Rulemaking Committee will be held on Tuesday, January 26, 2016 and Wednesday, January 27, 2016. On each day, the session will begin at approximately 8:30 a.m., and adjourn at approximately 5:30 p.m. The meeting will take place at the Weaver Building, U.S. Department of Housing and Urban Development, 451 Seventh Street SW., Washington, DC 20410. The primary agenda items for this meeting will be limited to discussion and vote on adjustments to data sources and approval of final preamble language.

These meetings will be open to the public; however, all members of the public will be required to register their attendance; present valid identification, and be subject to security screening upon entrance to the building. The deadline for registration is 5:00 p.m. Eastern Standard Time, January 22, 2016. The public may register using the following link: http://newregistration.firstpic.org/rulemaking/index.php or by calling 1-202-393-6400 (this is not a toll-free number). Through the registration process, attendees will be informed of the acceptable forms of identification to present for admittance to the building. Public attendance may be limited to the space available. Members of the public may make statements during the meetings, to the extent time permits, and file written statements with the committee for its consideration. Written statements should be submitted to the address listed in the FOR FURTHER INFORMATION CONTACT section of this document.

III. Future Committee Meetings

Notices of all future meetings will be published in the Federal Register. HUD will make every effort to publish such notices at least 15 calendar days prior to each meeting.

Dated: December 31, 2015.
Lourdes Castro Ramírez,
Principal Deputy Assistant Secretary for Public and Indian Housing.

[FR Doc. 2016-00185 Filed 1-7-16; 8:45 am]

BILLING CODE 4210-67-P